DEPARTMENT OF HOMELAND SECURITY

Coast Guard

33 CFR Part 110

[CGD05-06-064]

RIN 1625-AA01

Anchorage Grounds, Hampton Roads, VA

AGENCY: Coast Guard, DHS.

ACTION: Notice of proposed rulemaking.

SUMMARY: The Coast Guard proposes updating the coordinates of the boundaries of the anchorages listed below from the former North American Datum 1927 (NAD 27) standard to the current North American Datum 1983 (NAD 83) standard. These changes will not affect the locations or size of the anchorages on the NOAA charts as published by NOAA. The proposed change simply updates the anchorage positions in 33 CFR part 110 to match the current datum in use on the applicable charts, which are NAD 83.

DATES: Comments and related material must reach the Coast Guard on or before April 9, 2007.

ADDRESSES: You may mail comments and related material to Commander (dpw), Fifth Coast Guard District, 431 Crawford Street, Room 100, Portsmouth, VA 23704-5004. The telephone number is (757) 398-6360. You may e-mail your comments to Albert.L.Grimes@uscg.mil. Commander (dpw), Fifth Coast Guard District maintains the public docket for this rulemaking. Comments and material received from the public, as well as documents indicated in this preamble as being available in the docket, will become part of this docket and will be available for inspection or copying at (dpw) between 9 a.m. and 3 p.m., Monday through Friday, except Federal holidays.

FOR FURTHER INFORMATION CONTACT: Mr. Albert Grimes, Fifth Coast Guard District Prevention and Waterways, (757) 398-6360, e-mail: Albert.L.Grimes@uscg.mil.

SUPPLEMENTARY INFORMATION:

Request for Comments

We encourage you to participate in this rulemaking by submitting comments and related material. If you do so, please include your name and address, identify the docket number for this rulemaking (CGD05-06-064), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the address listed under ADDRESSES explaining why one would be beneficial. If we determine that one would aid this rulemaking, we will hold one at a time and place announced by a later notice in the Federal Register.

Background and Purpose

On May 25, 2005, the Coast Guard published a final rule (70 FR 29953) that provided changes and improvements to many of the anchorages in the Hampton Roads area. Coordinates for anchorages changed or improved as part of this final rule were also updated from their former NAD 27 position to a new NAD 83 position. Anchorages discussed in this NPRM were listed as “No Change,” while in another section of the final rule the reader was led to believe that the positions of these “No Change” anchorages had also been changed from NAD 27 to NAD 83. However, they are in fact still listed in 33 CFR part 110.168 as NAD 27 positions. This proposed rule will ensure that all of the Hampton Roads Anchorages listed in 33 CFR part 110.168 are NAD 83 positions.

Discussion of Proposed Rule

The anchorages that will be updated to NAD 83 datum are on the following table:

Current Anchorage [33 CFR 110.168(a)] |
A—Cape Henry Naval Anchorage (1) | Change to NAD 83.
B—Chesapeake Bay, Thimble Shoals Channel Naval Anchorage (CBTSC [(2)(i)] | Change to NAD 83.
C—CBTSC Naval Anchorage Naval [(2)(ii)] | Change to NAD 83.
D—CBTSC Naval Anchorage [(2)(iii)] | Change to NAD 83.
E—Commercial Explosive Anchorage [(2)(iv)] | Change to NAD 83.
E-1—Explosives Handling Berth [(2)(v)(A)] | Change to NAD 83.
F—Hampton Bar [(3)(i)] | Change to NAD 83.
F-1—[(3)(i)(A)] | Change to NAD 83.
G-1—Explosives Handling Berth [(3)(ii)(A)] | Change to NAD 83.
G-2—Explosives Handling Berth [(3)(ii)(B)] | Change to NAD 83.
H—Newport News Bar [(3)(iii)] | Change to NAD 83.
I—Newport News [(4)(i)] | Change to NAD 83.
I-1—Newport News [(4)(i)(A)] | Change to NAD 83.

This proposed rule is necessary to ensure all anchorages positions listed under 33 CFR 110.168 reflect that they are based on NAD 83 datum.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation under the regulatory policies and procedures of DHS is unnecessary. The effect of this proposed action merely modifies the datum of the geographic positions that define the boundaries of the existing anchorages.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. The proposed changes only make the boundary points of the anchorages referenced herein consistent with the current applicable NOAA navigation charts.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the address listed under ADDRESSES. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this rule under Commandant Instruction M16475.1D and Department of Homeland Security Management Directive 5100.1, which guides the Coast Guard in complying with the National Environmental Policy Act of 1969 (NEPA) (42 U.S.C. 4321-4370f), and have made a preliminary determination that there are no factors in this case that would limit the use of a categorical exclusion under section 2.B.2 of the Instruction. Therefore, we believe that this rule should be categorically excluded, under figure 2-1, paragraph (34)(i) of the Instruction, from further environmental documentation. Under figure 2-1, paragraph 34(i) of the Instruction, an “Environmental Analysis Check List” is not required for this rule. Comments on this section will be considered before we make a final decision on whether this rule should be categorically excluded from further environmental review.

List of Subjects in 33 CFR Part 110

Anchorage grounds.

For the reasons discussed in the preamble the Coast Guard proposes to amend 33 CFR part 110 as follows:

PART 110—ANCHORAGE REGULATIONS

1. The authority for part 110 is revised to read as follows:

Authority: 33 U.S.C. 471, 1221 through 1236, 2030, 2035, and 2071; 33 CFR 1.05-1(g); Department of Homeland Security Delegation No. 0170.1.

2. Amend § 110.168 to revise paragraphs (a)(1), (a)(2), (a)(3)(i), (a)(3)(ii), (a)(3)(iv), (a)(3)(v), (a)(3)(viii), (a)(4) (i), and (a)(4)(ii), to read as follows:

§ 110.168 Hampton Roads, Virginia and adjacent waters (Datum: NAD 83).

(a) Anchorage Grounds. (1) Anchorage A [Naval Anchorage]. The waters bounded by the shoreline and a line connecting the following points:

Latitude | Longitude
36°55′36.2″ N | 76°02′46.3″ W
36°57′03.3″ N | 76°03′01.4″ W
36°56′45.5″ N | 76°01′28.8″ W
36°55′55.7″ N | 76°01′35.7″ W

(2) Chesapeake Bay, Thimble Shoals Channel Anchorages.(i) Anchorage B [Naval Anchorage]. The waters bounded by a line connecting the following points:

Latitude | Longitude
36°57′58.5″ N | 76°06′05.8″ W
36°57′11.5″ N | 76°03′00.9″ W
36°55′49.3″ N | 76°03′12.8″ W
36°56′32.3″ N | 76°06′05.8″ W
36°57′04.5″ N | 76°06′05.8″ W
36°57′09.0″ N | 76°06′23.3″ W

(ii) Anchorage C [Naval Anchorage]. The waters bounded by a line connecting the following points:

Latitude | Longitude
36°58′55.3″ N | 76°09′40.3″ W
36°58′19.3″ N | 76°07′16.8″ W
36°57′27.5″ N | 76°07′36.3″ W
36°58′04.5″ N | 76°09′58.8″ W

(iii) Anchorage D [Naval Anchorage]. The waters bounded by the shoreline and a line connecting the following points:

Latitude | Longitude
36°55′49.5″ N | 76°10′31.6″ W
36°58′04.5″ N | 76°10′00.9″ W
36°57′31.7″ N | 76°07′53.6″ W
36°55′24.6″ N | 76°08′27.6″ W

(iv) Anchorage E [Commercial Explosives Anchorage]. The waters bounded by a line connecting the following points:

Latitude | Longitude
36°59′59.2″ N | 76°13′45.8″ W
36°59′08.7″ N | 76°10′32.6″ W
36°58′13.5″ N | 76°10′50.6″ W
36°59′02.5″ N | 76°14′04.9″ W

(v) Explosives Handling Berth E-1 [Explosives Anchorage Berth]. The waters bounded by the arc of a circle with a radius of 500 yards and the center located at:

Latitude | Longitude
36°59′05.5″ N | 76°11′21.8″ W

(3) Hampton Roads Anchorages. (i) Anchorage F, Hampton Bar. The waters bounded by a line connecting the following points:

Latitude | Longitude
36°59′52.1″ N | 76°19′10.8″ W
36°59′25.7″ N | 76°18′47.3″ W
36°58′49.6″ N | 76°19′32.6″ W
36°59′25.5″ N | 76°20′05.8″ W

(ii) Anchorage Berth F-1. The waters bounded by the arc of a circle with a radius of 500 yards and the center located at:

Latitude | Longitude
36°59′29.6″ N | 76°19′13.9″ W

* * * * *

(iv) Explosives Handling Berth G-1. The waters bounded by the arc of a circle with a radius of 500 yards and the center located at:

Latitude | Longitude
36°57′50.5″ N | 76°21′35.8″ W

(v) Explosives Handling Berth G-2. The waters bounded by the arc of a circle with a radius of 500 yards and the center located at:

Latitude | Longitude
36°58′14.5″ N | 76°21′00.3″ W

* * * * *

(viii) Anchorage H, Newport News Bar. The waters bounded by a line connecting the following points:

Latitude | Longitude
36°57′38.8″ N | 76°24′18.5″ W
36°57′52.3″ N | 76°22′29.7″ W
36°58′07.4″ N | 76°22′01.8″ W
36°57′31.6″ N | 76°22′00.6″ W
36°57′18.7″ N | 76°24′10.1″ W

(4) James River Anchorages. (i) Anchorage I, Newport News. The waters bounded by a line connecting the following points:

Latitude | Longitude
36°57′07.2″ N | 76°24′43.1″ W
36°56′23.1″ N | 76°24′26.8″ W
36°57′54.2″ N | 76°26′40.3″ W
36°56′03.5″ N | 76°24′35.8″ W
36°58′23.5″ N | 76°27′09.8″ W
36°58′49.0″ N | 76°27′09.8″ W
36°58′35.9″ N | 76°26′37.2″ W
36°57′52.2″ N | 76°26′01.6″ W
36°57′31.1″ N | 76°25′33.3″ W

(ii) Anchorage Berth I-1. The waters bounded by the arc of a circle with a radius of 400 yards and the center located at:

Latitude | Longitude
36°57′09.0″ N | 76°25′20.4″ W

* * * * *

Dated: February 14, 2007.
Larry L. Hereth,
Rear Admiral, U.S. Coast Guard, Commander, Fifth Coast Guard District.

[FR Doc. E7-4113 Filed 3-7-07; 8:45 am]

BILLING CODE 4910-15-P